DEPARTMENT OF THE INTERIOR

Bureau of Land Management

[LLWY920000.L14300000.FR0000; WYW-165173]

Notice of Realty Action: Non-Competitive (Direct) Sale of Public Land in Hot Springs County, WY

AGENCY: Bureau of Land Management, Interior.

ACTION: Notice of realty action.

SUMMARY: A 10-acre parcel of public land in Hot Springs County, Wyoming is being considered for non-competitive (direct) sale to Jim and Terry Wilson under the provisions of the Federal Land Policy and Management Act (FLPMA) of 1976, at no less than the appraised market value.

DATES: Interested parties may submit comments regarding the proposed sale of the land until May 9, 2011.

ADDRESSES: Written comments should be mailed to the Field Manager, Bureau of Land Management, Worland Field Office, 101 South 23rd Street, Worland, Wyoming 82401, or e-mailed to worland_wymail@blm.gov.

FOR FURTHER INFORMATION CONTACT: Karla Bird, Field Manager, Bureau of Land Management (BLM), Worland Field Office, 101 South 23rd Street, Worland, Wyoming 82401; (307) 347-5100; or worland_wymail@blm.gov.

SUPPLEMENTARY INFORMATION: The following described public land in Hot Springs County, Wyoming has been examined and found suitable for sale under the authority of Section 203 of the FLPMA, (43 U.S.C. 1701, 1713):

Sixth Principal Meridian

T. 43 N., R. 92 W.,

Sec. 22, tract 51-R.

The land described contains 10 acres, more or less, in Hot Springs County.

The land is not needed for any Federal purpose. The conveyance is consistent with the BLM Washakie Resource Management Plan dated September 1988, and would be in the public interest. On the date of publication of this notice in the Federal Register, the above described land will be segregated from all forms of appropriation under the public land laws, including the mining laws, except the sale provisions of the FLPMA. The segregative effect will terminate upon issuance of a patent, publication in the Federal Register of a termination of the segregation, or 2 years from the date of publication of this notice in the Federal Register, whichever comes first.

The public land will not be offered for sale until 60 days from the date of publication of this notice in the Federal Register, at the appraised market value of $3,600. A copy of the approved appraisal is available at the above address. The patent, if issued, will be subject to the following terms, conditions and reservations:

1. A right-of-way thereon for ditches or canals constructed by the authority of the United States, Act of August 30, 1890 (43 U.S.C. 945); and

2. All minerals, together with the right to prospect for, mine and remove such deposits from the same under applicable law and such regulations as the Secretary of the Interior may prescribe.

The patent will be subject to all valid existing rights documented on the official public land records at the time of patent issuance.

This land is being offered by direct sale to Jim and Terry Wilson pursuant to 43 CFR 2711.3-3(a)(5). Direct sale procedures are appropriate since the land has been inadvertently occupied and utilized for many years as a portion of a working ranch headquarters. The land is encumbered with facilities constructed in trespass prior to the Wilsons purchasing the adjoining ranch property. The facilities include two employee residences, a livestock scale house, airplane hanger, water storage tank, pipeline and a portion of a corral which are deemed necessary for the continued ranching operation. Removal of the structures would pose an unreasonable economic penalty on the Wilsons and would not serve any public interest. Adjoining public land uses will not be impacted by the sale.

Interested parties may submit written comments to the BLM Worland Field Manager at the address above. Comments, including names and street addresses of respondents, will be available for public review at the BLM Worland Field Office during regular business hours. Before including your address, phone number, e-mail address, or other personal identifying information in your comment, you should be aware that your entire comment—including your personal identifying information—may be made publicly available at any time. While you may ask us in your comment to withhold your personal identifying information from public review, we cannot guarantee that we will be able to do so.

Any adverse comments will be reviewed by the BLM Wyoming State Director who may sustain, vacate, or modify this realty action and issue a final determination. In the absence of any objections, this realty action will become the final determination of the Department of the Interior.

(Authority: 43 CFR 2711)

Donald A. Simpson,
Wyoming State Director.

[FR Doc. 2011-7007 Filed 3-24-11; 8:45 am]

BILLING CODE 4310-22-P